NUCLEAR REGULATORY COMMISSION

Advisory Committee on Nuclear Waste; Revised

The 179th Advisory Committee on Nuclear Waste (ACNW) meeting scheduled to be held on May 16-17, 2007, Room T-2B3, Two White Flint North, 11545 Rockville Pike, Rockville, Maryland has been revised as noted below. Notice of this meeting was previously published in the Federal Register on Thursday, April 26, 2007 (72 FR 20889).

The discussion of the item on Yucca Mountain Preclosure Repository Design: NRC Staff Review Readiness and Views on the Issues, scheduled between 1 p.m. and 4 p.m. on Wednesday, May 16, 2007, is now scheduled between 1 p.m. and 3:30 p.m.

The discussion of the topic on NCRP Study on Radiation Exposure of U.S. Population, scheduled between 4 p.m.—6 p.m. on Wednesday, May 16, 2007 has been canceled. A discussion of ACNW Letter Reports will now take place between 3:45 p.m. and 5:30 p.m on Wednesday, May 16, 2007. All the other items remain the same as previously published in the Federal Register on Thursday, April 26, 2007 (72 FR 20889).

For further information, contact Mr. Antonio L. Dias, (Telephone 301-415-6805), between 6:45 a.m. and 4:30 p.m., ET.

Dated: May 1, 2007.
Andrew L. Bates,
Advisory Committee Management Officer.

[FR Doc. E7-8676 Filed 5-4-07; 8:45 am]

BILLING CODE 7590-01-P